DEPARTMENT OF ENERGY

Federal Energy Regulatory Commission

Notice of Application Ready for Environmental Analysis and Soliciting Comments, Recommendations, Terms and Conditions, and Prescriptions

August 12, 2002.

Take notice that the following hydroelectric application has been filed with the Commission and is available for public inspection.

a. Type of Application: New Major License.

b. Project No.: 233-081.

c. Date filed: October 19, 2001.

d. Applicant: Pacific Gas and Electric Company.

e. Name of Project: Pit 3, 4, 5 Project.

f. Location: On the Pit River, in Shasta County, near the community of Burney and the Intermountain towns of Fall River Mills and McArthur, California. The project includes 746 acres of lands of the United States, which are administered by the Forest Supervisor of the Shasta Trinity National Forest and the Forest Supervisor of the Lassen National Forest.

g. Filed Pursuant to: Federal Power Act 16 U.S.C. 791 (a)-825(r).

h. Applicant Contact: Mr. Randal Livingston, Lead Director, Hydro Generation Department, Pacific Gas and Electric Company, P.O. Box 770000, N11C, San Francisco, CA 94177, (415) 973-6950.

i. Commission Contact: Any questions concerning this notice should be addressed to John Mudre, e-mail address john.mudre@ferc.gov, or telephone (202) 502-8902.

j. Deadline for filing comments, recommendations, terms and conditions, and prescriptions: 60 days from the issuance of this notice

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's web site (http://www.ferc.gov) under the “e-Filing” link.

k. This application has been accepted, and is ready for environmental analysis at this time.

l. The existing project consists of the following existing facilities: three hydraulically-connected developments, with a total of four dams, four reservoirs, three powerhouses, associated tunnels, surge chambers, and penstocks. The powerhouses contain nine generating units with a combined operating capacity of about 325 MW. No new construction is proposed.

The Pit 3 development consists of: (1) The 1,293-acre Lake Britton, with a gross storage capacity of 41,877 acre feet; (2) The Pit 3 Dam, with a crest length of 494 feet and a maximum height of 130 feet; (3) A concrete tunnel in two sections, 19 feet in diameter with a total length of about 21,000 feet; (4) A surge tank; (5) Three penstocks about 10 feet in diameter and 600 feet in length; (6) A 47-foot by 194-foot reinforced concrete multilevel powerhouse; (7) Three generating units, driven by three vertical Francis turbines, with a combined normal operating capacity of 70 MW; and (8) Appurtenant facilities.

The Pit 4 development consists of: (1) The 105-acre Pit 4 Reservoir, with a gross storage capacity of 1,970 acre feet; (2) The Pit 4 Dam, consisting of a gravity type overflow section 203 feet in length with a maximum height of 108 feet and a slab-and-buttress type section 212 feet in length with a maximum height of 78 feet; (3) A 19-foot-diameter pressure tunnel with a total length of about 21,500 feet; (4) Two 12-foot-diameter penstocks about 800 feet in length; (5) A four-level 58-foot by 155-foot reinforced concrete powerhouse; (6) Two generating units, driven by two vertical Francis turbines, with a combined normal operating capacity of 95 MW; and (7) Appurtenant facilities.

The Pit 5 development consists of: (1) The 32-acre Pit 5 Reservoir, with a gross storage capacity of 314 acre feet; (2) The Pit 5 Dam, with a concrete gravity overflow structure 340 feet in length and a maximum height of 67 feet; (3) The 19-foot-diameter Tunnel No. 1; (4) The 48-acre Pit 5 Tunnel Reservoir, with a gross storage capacity of 1,044 acre feet; (5) The Pit 5 Tunnel Reservoir Dam, approximately 3,100 feet long and 66 feet high; (6) The 19-foot-diameter Pit 5 Tunnel No. 2; (7) Four steel penstocks about 8 feet in diameter and 1,400 feet in length; (8) A 56-foot by 266.5-foot reinforced concrete multilevel powerhouse; (9) four generating units, driven by four vertical Francis turbines, with a combined normal operating capacity of 160 MW; and (10) Appurtenant facilities.

m. A copy of the application is on file with the Commission and is available for public inspection. This filing may also be viewed on the web at http://www.ferc.gov using the “FERRIS” link. Enter the docket number excluding the last three digits in the docket number field to access the document. For assistance, call (202) 502-8222 or for TTY, (202) 208-1659. A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. Procedural schedule: The application will be processed according to the following Hydro Licensing Schedule. Revisions to the schedule may be made as appropriate.

Notice of application ready for environmental analysis—August 12, 2002;

Terms and Conditions in response to REA Notice due October—11, 2002;

Reply comment due date—November 25, 2002;

Notice of the availability of the draft EA—January 15, 2003;

DEA comments due—March 3, 2003;

Notice of the availability of the final EA—April 15, 2003.

Linwood A. Watson, Jr.,
Deputy Secretary.

[FR Doc. 02-20825 Filed 8-15-02; 8:45 am]

BILLING CODE 6717-01-P